DEPARTMENT OF AGRICULTURE

Forest Service

Notice of Intent To Prepare a Joint Supplemental Environmental Impact Statement/Environmental Impact Report for the Tehachapi Renewable Transmission Project

AGENCY: Forest Service, USDA.

ACTION: Notice of intent.

SUMMARY: The USDA Forest Service, together with the California Public Utilities Commission (CPUC), will prepare a joint Supplemental Environmental Impact Statement (EIS) and Supplemental Environmental Impact Report (EIR) to assess the effects of Federal Aviation Administration (FAA) recommendations on National Forest System lands for the Tehachapi Renewable Transmission Project (TRTP). The CPUC granted Southern California Edison (SCE) approval to build TRTP in Decision 09-12-044 on non-federal lands, and the Forest Service approved SCE to implement the TRTP on National Forest System lands in a 2010 Record of Decision (ROD). The decision required SCE to consult with the FAA for aviation safety. The FAA recommended installing marker balls on certain transmission line spans and aviation lighting on certain transmission structures. These recommendations will be analyzed in the joint Supplemental EIS/EIR.

Following the public review period for the Draft Supplemental EIS/EIR the Forest Service and CPUC will issue a Final Supplemental EIS/EIR. The Forest Service will issue a ROD to document the decision to either approve or deny the changes to SCE's project. As the National Environmental Policy Act (NEPA) Lead Agency for the project, the Forest Service will conduct a detailed review of the effects of the FAA recommendations on National Forest System lands. Within the Angeles National Forest it is estimated that approximately 649 marker balls on 119 spans and 4 structures with aviation lights would impact Segments 6 and 11 to implement the FAA's recommendations. Two of the 4 structures recommended for aviation lights are on private lands within the Angeles National Forest, and are not subject to Forest Service jurisdiction or control.

The Forest Service is providing notice of this analysis so that interested and affected individuals are aware of how they may participate and contribute towards the final decision on the TRTP by the Forest Service. Note: Segment 8A undergrounding options are not the subject of this Notice of Intent.

DATES: The Draft Supplemental EIS/EIR is expected to be published in January 2013. A 45-day comment period will occur following publication of the Notice of Availability in the Federal Register.

ADDRESSES: To request a copy of the Draft Supplemental EIS/SEIR or Final Supplemental EIS/EIR when it is available, or to obtain further information about the project, please write to the Angeles National Forest, c/o Aspen Environmental Group, 5020 Chesebro Road, Suite 200, Agoura Hills, CA 91301. Alternately, electronic comments may be sent to trtpsuppeir-eis@aspeneg.com. Electronic comments must be submitted as part of the actual email message, or as an attachment in plain text (.txt), Microsoft Word (.doc), rich text format(.rtf), or portable document format (.pdf). Information about the Supplemental EIS/EIR and the environmental review process will be posted on the Internet at: http://www.fs.fed.us/r5/angeles/projects/. This site will be used to post links to all public documents during the Supplemental EIS/EIR process.

FOR FURTHER INFORMATION CONTACT: Lorraine Gerchas, Special Uses Coordinator, Forest Service, Angeles National Forest, 701 N. Santa Anita Ave., Arcadia, CA 91006, phone: (626) 574-5281. For additional information related to the project on non-National Forest System lands, contact Mary Jo Borak, California Public Utilities Commission (CPUC), 505 Van Ness Avenue, San Francisco, CA 94102; phone: (415) 703-1333. All project-related documents are available on the Project Web site: ftp://ftp.cpuc.ca.gov/gopher-data/environ/tehachapi_renewables/TRTP.htm.

Responsible Official: The responsible official is Thomas Contreras, Forest Supervisor, Angeles National Forest, 701 North Santa Anita Avenue, Arcadia, California 91006.

SUPPLEMENTARY INFORMATION: Lead Agencies: The Forest Service is the Federal Lead Agency in accordance with 40 CFR 1501(b), and is responsible for the preparation of the Supplemental Draft EIS/EIR and Supplemental Final EIS/EIR.

Comments: Under NEPA regulations scoping is not required for supplements. As such, no NEPA scoping effort will occur as part of the Draft Supplemental EIS/EIR preparation process. No public scoping meetings will be held.

The Forest Service is not accepting public comment at this time, but the agency may be contacted with any questions, or requests for documents. The Draft Supplemental EIS/EIR will be made available for public comment. The comment period on the Draft Supplemental EIS/EIR is 45-days from the date the US Environmental Protection Agency publishes the Notice of Availability in the Federal Register.

In the Final Supplemental EIS/EIR the Forest Service is required to respond to substantive comments received during the comment period for the Draft Supplemental EIS/EIR. The Forest Service is the NEPA Lead Agency and the responsible official is the Forest Supervisor, Angeles National Forest. The responsible official will decide whether and how to issue Special Use authorization for the modifications to the project or alternatives. The responsible official will also decide how to mitigate impacts of these actions and will determine when and how monitoring of effects will take place.

The TRTP Supplemental EIS/EIR decision and the reasons for the decision will be documented in the ROD. That decision will be subject to Forest Service Appeal Regulations (35 CFR part 215).

Authority: 40 CFR 1501.7 and 1508.22; Forest Service Handbook 1909.15, Section 22.

Dated: September 18, 2012.
Thomas A. Contreras,
Forest Supervisor.

[FR Doc. 2012-23471 Filed 9-25-12; 8:45 am]

BILLING CODE 3410-11-M